DEPARTMENT OF JUSTICE

Antitrust Division

Notice Pursuant to the National Cooperative Research and Production Act of 1993—DVD Copy Control Association

Notice is hereby given that, on December 3, 2012, pursuant to Section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, CSR Technology Inc., Sunnyvale, CA; Guangdong Coagent Electronics S&T Co., Ltd., Guangdong, PEOPLE'S REPUBLIC OF CHINA; Hong Kong ASA Multimedia Co., Ltd., Kowloon, HONG KONG-CHINA; National Semiconductor Corporation, Santa Clara, CA; sMedio, Inc., Tokyo, JAPAN; and VIXS Systems Inc., Toronto, CANADA, have been added as parties to this venture.

Also, Arts Electronics Co., Ltd., Guangdong, PEOPLE'S REPUBLIC OF CHINA; DVD Club Ltd., Moscow, RUSSIA; Forworld Electronics Co., Ltd., Taichung City, TAIWAN; Mimeos VoF, Baarlo Noord Limburg, THE NETHERLANDS; Sonic Solutions, Novato, CA; and Zoran Corporation, Santa Clara, CA, have withdrawn as parties to this venture.

In addition, Cinram International has changed its name to Cinram Group Inc., Toronto, CANADA.

No other changes have been made in either the membership or planned activity of the group research project. Membership in this group research project remains open, and DVD CCA intends to file additional written notifications disclosing all changes in membership.

On April 11, 2001, DVD CCA filed its original notification pursuant to Section 6(a) of the Act. The Department of Justice published a notice in the Federal Register pursuant to Section 6(b) of the Act on August 3, 2001 (66 FR 40727).

The last notification was filed with the Department on August 24, 2012. A notice was published in the Federal Register pursuant to Section 6(b) of the Act on September 24, 2012 (77 FR 58870).

Patricia A. Brink,
Director of Civil Enforcement, Antitrust Division.

[FR Doc. 2012-31467 Filed 12-31-12; 8:45 am]

BILLING CODE P